NATIONAL FOUNDATION ON THE ARTS AND THE HUMANITIES

National Endowment for the Arts; Arts Advisory Panel

Pursuant to Section 10(a)(2) of the Federal Advisory Committee Act (Pub. L. 92-463), as amended, notice is hereby given that 11 meetings of the Arts Advisory Panel to the National Council on the Arts will be held at the Nancy Hanks Center, 1100 Pennsylvania Avenue, NW., Washington, DC, 20506 as follows (ending times are approximate):

State & Regional/Arts Education (State Arts Agency Partnership Agreement review): January 8-9, 2008 in Room 716. This meeting, from 9 a.m. to 10:15 a.m. and from 12:30 p.m.-5:30 p.m. on Tuesday, January 8th, and from 9 a.m. to 2 p.m. on January 9th, will be open. A policy discussion will be held from 11:30 a.m.—12:30 p.m. on January 9th.

American Masterpieces: Visual Arts Touring (application review): January 11, 2008 in Room 716. This meeting, from 9 a.m. to 4 p.m., will be closed.

NEA National Folk Heritage Fellowships (review of nominations): January 15-18, 2008 in Room 716. This meeting, from 9 a.m. to 6:30 p.m. on January 15th and 16th, from 9 a.m. to 5:30 p.m. on January 17th, and from 9 a.m. to 3:30 p.m. on January 18th, will be closed.

Media Arts (application review): January 17-18, 2008 in Room 730. This meeting, from 9 a.m. to 5:45 p.m. on January 17th and from 9 a.m. to 5 p.m. on January 18th, will be closed.

State & Regional (State Arts Agency Partnership Agreement review): January 23-24, 2008 in Room 716. This meeting, from 9 a.m. to 6 p.m. on Wednesday, January 23rd and from 9 a.m. to 4 p.m. on January 24th, will be open. A policy discussion will be held from 2 p.m.-4 p.m. on January 24th.

American Masterpieces: Chamber Music (application review): January 23-24, 2008 in Room 714. A portion of this meeting, from 4:15 p.m. to 5:15 p.m. on Thursday, January 24th, will be open to the public for a policy discussion. The remainder of the meeting, from 9 a.m. to 6 p.m. on January 23rd and from 9 a.m. to 4:15 p.m. and 5:15 p.m. to 5:30 p.m. on January 24th, will be closed.

State & Regional/Folk Arts Infrastructure (State Arts Agency Partnership Agreement review): January 25, 2008 in Room 716. This meeting, from 9 a.m. to 5:30 p.m., will be open. A policy discussion will be held from 4:30 p.m.—5 p.m.

American Masterpieces: Chamber Music (application review): January 25, 2008 in Room 714. This meeting, from 8:30 a.m. to 5:15 p.m., will be closed.

American Masterpieces: Presenting (application review): January 29-31, 2008 in Room 716. This meeting, from 9 a.m. to 5:30 p.m. on January 29th and 30th and from 9 a.m. to 12 p.m. on January 31st, will be closed.

NEA Jazz Masters Fellowships (review of nominations): January 29, 2008 (by teleconference). This meeting, from 12 p.m. to 1:30 p.m. (EST), will be closed.

NEA Jazz Masters Fellowships (review of nominations): January 29, 2008 (by teleconference). This meeting, from 2 p.m. to 3 p.m. (EST), will be closed.

The closed portions of meetings are for the purpose of Panel review, discussion, evaluation, and recommendations on financial assistance under the National Foundation on the Arts and the Humanities Act of 1965, as amended, including information given in confidence to the agency. In accordance with the determination of the Chairman of February 21, 2007, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC, 20506, or call 202/682-5691.

Dated: December 7, 2007.
Kathy Plowitz-Worden,
Panel Coordinator, Panel Operations, National Endowment for the Arts.

[FR Doc. E7-24070 Filed 12-11-07; 8:45 am]

BILLING CODE 7537-01-P